DEPARTMENT OF COMMERCE

Census Bureau

Agency Information Collection Activities; Submission to the Office of Management and Budget (OMB) for Review and Approval; Comment Request; Automated Export System (AES)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 21, 2022, during a 60-day comment period. This notice allows for an additional 30 days for public comments.

Agency: U.S. Census Bureau, Department of Commerce.

Title: Automated Export System (AES).

OMB Control Number: 0607-0152.

Form Number(s): Automated Export System (AES).

Type of Request: Regular submission, Request for Extension without change of a currently approved collection.

Number of Respondents: 17,025,219.

Average Hours per Response: 3 minutes per AES transaction.

Burden Hours: 851,261.

Needs and Uses: The Census Bureau requires mandatory filing of all export information via the Automated Export System (AES). This requirement is mandated through Public Law 107-228 of the Foreign Trade Relations Act of 2003. This law authorizes the Secretary of Commerce with the concurrences of the Secretary of State and the Secretary of Homeland Security to require all persons who file export information according to Title 13, United States Code (U.S.C.), Chapter 9, to file such information through the AES. With this submission, the Census Bureau is requesting continued clearance of the AES program.

The AES is the primary instrument used for collecting export trade data, which are used by the Census Bureau for statistical purposes. The AES provides the means for collecting data on U.S. exports. Title 13, U.S.C., Chapter 9, Sections 301-307, mandates the collection of these data. The regulatory provisions for the collection of these data are contained in the Foreign Trade Regulations (FTR), Title 15, Code of Federal Regulations (CFR), Part 30. The official export statistics collected from these tools provide the basic component for the compilation of the U.S. position on merchandise trade. These data are an essential component of the monthly totals provided in the U.S. International Trade in Goods and Services (FT-900) Press Release, a principal federal economic indicator, and a primary component of the Gross Domestic Product. The published export data enable the private and public sector to develop practical marketing strategies as well as provide a means to assess the impact of exports on the domestic economy. These data are used in the development of U.S. government economic and foreign trade policies, including export control purposes under the Export Control Reform Act of 2018, 50 U.S.C. 4801-4852. The Bureau of Industry and Security (BIS), U.S. Customs and Border Protection (CBP), and other enforcement agencies use these data to detect and prevent the export of certain items by unauthorized parties to unauthorized destinations or end users.

In order to publish accurate export trade statistics, the Census Bureau is responsible for maintaining the FTR, which implements the provisions for filing export information in the AES. In addition to the publication of the FT-900, the Census Bureau releases data on imports of steel mill products in advance of the regular monthly trade statistics release. This exception to the normal procedure was initially approved by the OMB in January 1999 and had been subsequently extended annually through means of a separately submitted memo. This exception has permitted the public release of preliminary monthly data on imports of steel under the provisions of the OMB's Statistical Policy Directive No. 3 on the Compilation, Release and Evaluation of Principal Federal Economic Indicators. With the revision to the AES Program in 2019, the Census Bureau eliminated the need for an annual approval from OMB since it is included in the Information Collection Request (ICR).

The Census Bureau has proposed a rule that could lead to a change in the FTR and the AES since the last OMB clearance. Specifically, the Census Bureau issued a Notice of Proposed Rulemaking (NPRM) in 2021 to propose the addition of a conditional data element, country of origin in the AES, and to make remedial changes to the FTR to improve clarity of the AES reporting requirements while correcting any errors. The proposed rule would require AES filers (the U.S. Principal Party in Interest (USPPI) or the authorized agent) to report the country of origin only when foreign origin goods are exported. In calendar year 2021, 12.5 million AES records (27.5 percent) consisted of foreign origin commodities. At this time the Census Bureau is still reviewing the comments received and is having internal discussions. At the conclusion of the review, the Census Bureau will weigh the statistical need of the data to the overall impact this change will have on businesses in the export trade community in order to make a final decision on whether to add the new field. If it is determined that the Census Bureau will move forward with the addition of the country of origin, then a revision to the ICR will be made and an opportunity for comments will be provided. It is critical for the Census Bureau to ensure that any revisions made to the FTR will allow for the continued collection and compilation of complete, accurate and timely trade statistics.

The information collected via the AES conveys what is being exported (description and commodity classification number); how much is exported (quantity, shipping weight, and value); how it is exported (method of transport, exporting carrier, and whether containerized); who the parties to the transaction are (USPPI, authorized agent, and intermediate and ultimate consignees); from where (state of origin and port of export); to where (port of unloading and country of ultimate destination); and when a commodity is exported (date of exportation). Profile information on the USPPI and the authorized agent provides a contact for verification of the information.

The data collected from the AES serves as the official record of export transactions and is used by the U.S. Federal Government and the private sector. The Federal Government uses every data element in the AES. The mandatory filing requirement of the export information in AES enables the Federal Government to produce more complete, accurate and timely export statistics. The Census Bureau delegated the authority to enforce the FTR to the BIS's Office of Export Enforcement along with the Department of Homeland Security's CBP and Homeland Security Investigations (HSI). The mandatory use of the AES also facilitates the enforcement by the BIS of the Export Administration Regulations for the detection and prevention of exports of national security sensitive commodities to unauthorized destinations; the enforcement by the CBP of the U.S. Department of State's International Traffic in Arms Regulations for the exports of defense articles; the validation by the Census Bureau of the Kimberly Process Certificate for the exports of rough diamonds; and enforcement and compliance by other federal agencies (i.e., Environmental Protection Agency, Drug Enforcement Agency, etc.) of regulations pertaining to export requirements.

Other Federal agencies use these data to develop the components of the merchandise trade figures used in the calculations for the balance of payments and Gross Domestic Product accounts to evaluate the effects of the value of U.S. exports; and to prepare for and assist in trade negotiations under the General Agreement on Tariffs and Trade. Collection of these data also eliminates the need for conducting additional surveys for the collection of information because the AES shows the relationship of the parties to the export transaction (as required by the Bureau of Economic Analysis (BEA). The Bureau of Labor Statistics also uses the AES data as a source for developing the export price index and by the U.S. Department of Transportation for administering the negotiation of reciprocal arrangements for transportation facilities between the U.S. and other countries. Additionally, a collaborative effort amongst the Census Bureau, the National Governors' Association and other data users resulted in the development of export statistics requiring the state of origin to be reported on the AES. This information enables state governments to focus activities and resources on fostering the exports of goods that originate in their states.

The International Trade Administration relies heavily on the preliminary import statistics of steel mill products provided by the Census Bureau. As a part of the Government's steel initiative, the Department of Commerce was instructed by the Administration to monitor steel imports. The early release of preliminary statistics on steel mill imports allows the steel industry to identify trends and potential shifts in trade patterns and take appropriate action. A variety of parties, including government officials and the public with an interest in imports of steel products continue to use this monitoring system heavily. The FTR, Subpart F addresses the general requirements for filing import entries with CBP in the ACE in accordance with 19 CFR, which is the source of the import data on steel mill products.

Export statistics collected from the AES aid private sector companies, financial institutions, and transportation entities in conducting market analysis and market penetration studies for the development of new markets and market-share strategies. Port authorities, steamship lines, airlines, aircraft manufacturers, and air transport associations use these data for measuring the volume and effect of air or vessel shipments and the need for additional or new types of facilities.

Affected Public: Business or other for-profit organizations.

Frequency: On occasion.

Respondent's Obligation: Mandatory.

Legal Authority: Title 13 United States Code, Chapter 9, Section 301.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0152.

Sheleen Dumas,
Department PRA Clearance Officer, Office of the Chief Information Officer, Commerce Department.

[FR Doc. 2023-02471 Filed 2-3-23; 8:45 am]

BILLING CODE 3510-07-P